DEPARTMENT OF COMMERCE

International Trade Administration

[A-588-854]

Certain Tin Mill Products From Japan: Continuation of Antidumping Duty Order

AGENCY: Enforcement and Compliance, International Trade Administration, Department of Commerce.

SUMMARY: As a result of the determinations by the Department of Commerce (Commerce) and the International Trade Commission (ITC) that revocation of the antidumping duty (AD) order on certain tin mill products (tin mill products) from Japan would likely lead to a continuation or recurrence of dumping and material injury to an industry in the United States, Commerce is publishing a notice of continuation of the AD order.

DATES: Applicable July 11, 2018.

FOR FURTHER INFORMATION CONTACT: Yasmin Bordas, AD/CVD Operations, Office VI, Enforcement and Compliance, International Trade Administration, U.S. Department of Commerce, 1401 Constitution Avenue NW, Washington, DC 20230; telephone: (202) 482-3813.

SUPPLEMENTARY INFORMATION:

Background

On August 28, 2000, Commerce published in the Federal Register the AD order on tin mill products from Japan.¹ On May 1, 2017, Commerce published the notice of initiation of the third sunset review of the AD order on tin mill products from Japan, pursuant to section 751(c) of the Tariff Act of 1930, as amended (the Act).² Commerce conducted this sunset review on an expedited basis, pursuant to section 751(c)(3)(B) of the Act and 19 CFR 351.218(e)(1)(ii)(C)(2) because it received a complete, timely, and adequate response from a domestic interested party but no substantive responses from respondent interested parties. As a result of the review, Commerce determined, pursuant to sections 751(c)(1) and 752(c) of the Act, that revocation of the AD order would likely lead to a continuation or recurrence of dumping.³ Commerce, therefore, notified the ITC of the magnitude of the dumping margins likely to prevail should the AD order be revoked. On June 25, 2018, the ITC published notice of its determination, pursuant to sections 751(c) and 752(a) of the Act, that revocation of the AD order on tin mill products from Japan would likely lead to a continuation or recurrence of material injury to an industry in the United States within a reasonably foreseeable time.⁴

¹ See Certain Tin Mill Products from Japan: Notice of Antidumping Duty Order, 65 FR 52067 (August 28, 2000).

² See Initiation of Five-Year (“Sunset”) Reviews, 82 FR 20314 (May 1, 2017).

³ See Certain Tin Mill Products from Japan: Final Results of the Expedited Third Sunset Review of the Antidumping Duty Order, 82 FR 41933 (September 5, 2017) (Final Results).

⁴ See Tin- and Chromium-Coated Steel Sheet from Japan: Investigation No. 701-TA-860 (Third Review), USITC Publication 4795 (June 2018); see also Tin- and Chromium-Coated Steel Sheet from Japan; Determination, 83 FR 29568 (June 25, 2018).

Scope of the Order

The products covered by the antidumping duty order are tin mill flat-rolled products that are coated or plated with tin, chromium or chromium oxides. Flat-rolled steel products coated with tin are known as tin plate. Flat-rolled steel products coated with chromium or chromium oxides are known as tin-free steel or electrolytic chromium-coated steel. The merchandise covered by the order is currently classified in the Harmonized Tariff Schedule of the United States (HTSUS), under HTSUS subheadings 7210.11.0000, 7210.12.0000, 7210.50.0000, 7212.10.0000, and 7212.50.0000 if of non-alloy steel and under HTSUS subheadings 7225.99.0090, and 7226.99.0180 if of alloy steel.

The HTSUS subheadings are provided for convenience and customs purposes. The written description of the scope of the order remains dispositive.⁵

⁵ A full description of the scope of the order is contained in the memorandum to Gary Taverman, Deputy Assistant Secretary for Antidumping and Countervailing Duty Operations, performing the non-exclusive functions and duties of the Assistant Secretary for Enforcement and Compliance, from James Maeder, Senior Director performing the duties of Deputy Assistant Secretary for Antidumping and Countervailing Duty Operations, “Issues and Decision Memorandum for the Expedited Sunset Review of the Antidumping Duty Order on Certain Tin Mill Products from Japan” (Issues and Decision Memorandum), dated August 29, 2017.

Continuation of the Order

As a result of the determinations by Commerce and the ITC that revocation of the AD order would likely lead to a continuation or recurrence of dumping and material injury to an industry in the United States, pursuant to section 751(d)(2) of the Act and 19 CFR 351.218(a), Commerce hereby orders the continuation of the AD order on tin mill products from Japan.

U.S. Customs and Border Protection will continue to collect AD cash deposits at the rates in effect at the time of entry for all imports of subject merchandise. The effective date of the continuation of the order will be the date of publication in the Federal Register of this notice of continuation. Pursuant to section 751(c)(2) of the Act, Commerce intends to initiate the next five-year sunset review of the order not later than 30 days prior to the fifth anniversary of the effective date of continuation.

This five-year sunset review and this notice are in accordance with section 751(c) and 751(d)(2) of the Act and published pursuant to section 777(i)(1) of the Act and 19 CFR 351.218(f)(4).

Dated: July 3, 2018.
Gary Taverman,
Deputy Assistant Secretary for Antidumping and Countervailing Duty Operations, performing the non-exclusive functions and duties of the Assistant Secretary for Enforcement and Compliance.

[FR Doc. 2018-14826 Filed 7-10-18; 8:45 am]

BILLING CODE 3510-DS-P